DEPARTMENT OF COMMERCE

National Oceanic and Atmospheric Administration

50 CFR Part 679

[Docket No. 0911161406-0195-04]

RIN 0648-AY37

Fisheries of the Exclusive Economic Zone Off Alaska; Individual Fishing Quota Program; Correction

AGENCY: National Marine Fisheries Service (NMFS), National Oceanic and Atmospheric Administration (NOAA), Commerce.

ACTION: Final rule; correction.

SUMMARY: This action corrects the SUPPLEMENTARY INFORMATION section to a final rule published in the Federal Register on April 20, 2010, which erroneously waived the 30 day delay in effective date. A 30-day delay in effectiveness will allow fishermen to come into compliance with the terms of the rule, as was originally intended, without compromising any other aspect of the fishery. NMFS will not enforce the requirement that owners be onboard vessels unless otherwise required by statute or regulation.

DATES: Effective May 3, 2010.

FOR FURTHER INFORMATION CONTACT: Patsy A. Bearden, 907-586-7228.

SUPPLEMENTARY INFORMATION:

Need for Correction

In the final rule, published on April 20, 2010, that revised the Individual Fishing Quota Program for the sablefish and halibut fisheries off Alaska (75 FR 20526), make the following correction in the SUPPLEMENTARY INFORMATION section. On page 20527, in the second column, delete this paragraph:

“For the same reasons, the AA finds good cause under 5 U.S.C. 553(d)(3) to waive the 30 day delay in effective date.”

Dated: April 27, 2010.
Samuel D. Rauch III,
Deputy Assistant Administrator for Regulatory Programs, National Marine Fisheries Service.

[FR Doc. 2010-10237 Filed 4-28-10; 4:15 pm]

BILLING CODE 3510-22-S